DEPARTMENT OF DEFENSE

Office of the Secretary

[Docket ID DoD-2013-OS-0165]

Submission for OMB Review; Comment Request

ACTION: Notice.

SUMMARY: The Department of Defense has submitted to OMB for clearance, the following proposal for collection of information under the provisions of the Paperwork Reduction Act (44 U.S.C. Chapter 35).

DATES: Consideration will be given to all comments received by August 18, 2014.

FOR FURTHER INFORMATION CONTACT: Fred Licari, 571-372-0493.

SUPPLEMENTARY INFORMATION:

Title, Associated Form and OMB Number: Technology and Contract Information Collection/Commercial and Government Entity (CAGE) Code Request for Information; OMB Control Number 0704-TBD.

Type of Request: New.

Number of Respondents: 13,541.

Responses per Respondent: 1.

Annual Responses: 13,541.

Average Burden per Response: 20 minutes.

Annual Burden Hours: 4,514.

Needs and Uses: Executive Order 12829, “National Industrial Security Program (NISP),” (January 6, 1993, as amended), established the NISP, the purpose of which is to “safeguard classified information that may be released or has been released to current, prospective, or former contractors, licensees, or grantees of United States agencies.” Pursuant to paragraph 202(a) of the Executive Order, the Secretary of Defense serves as the “executive agent for inspecting and monitoring the contractors, licensees, and grantees who require or will require access to, or who store, or will store, classified information; and for determining the eligibility for access to classified information of contractors, licensees, and grantees and their respective employees.”

The DSS Director has been assigned specific responsibility for administering the NISP on behalf of DoD components and those Executive Branch departments and agencies that have entered into agreements with the Secretary of Defense for industrial security services required for safeguarding classified information disclosed to industry by these DoD components and executive Branch departments or agencies (collectively referred to hereafter as Government Contracting Activities (GCAs). (See DoD Directive 5105.42, “Defense Security Service,” and DoD Instruction 5220.22, “National Industrial Security Program.” DSS carries out its NISP administration mission in part by assessing the security posture of cleared contractor facilities in order to determine if the cleared facilities are complying with the provisions of the National Industrial Security Program Operating Manual (NISPOM) and by verifying that cleared contractors mitigate and ensuring identified security vulnerabilities. This public information collection is focused on strengthening DSS analysis of threats to classified information and cleared personnel at cleared contractor facilities by ensuring the accuracy of contract, technology, program, and facility data in the DSS Industrial Security Facilities Database (ISFD). DSS will be able to more effectively and efficiently perform its NISP administration mission if DSS can analyze accurate information in ISFD. In turn, this will allow DSS to better tailor vulnerability assessments and other products and support for cleared facilities. Responding to this public information collection is voluntary. This collection of information does not seek classified information or trade secrets. Respondents will be requested to state whether any information provided in response to this information collection is privileged or confidential commercial or financial information.

Affected Public: Business or Other For-Profits; Not-for Profit Institutions.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: July 14, 2014.
Aaron Siegel,
Alternate OSD Federal Register Liaison Officer, Department of Defense.

[FR Doc. 2014-16884 Filed 7-17-14; 8:45 am]

BILLING CODE 5001-06-P